DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before August 21, 2008.

ADDRESSES: You may submit your comments, identified by “docket number” on the subject line, by any of the following methods:

1. Electronic mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Lawrence D. Reynolds, Acting Deputy Director, Office of Standards, Regulations, and Variances at 202-693-9449 (Voice), reynolds.lawrence@dol.gov (E-mail), or 202-693-9441 (Telefax), or contact Barbara Barron at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-033-C.

Petitioner: Penn View Mining, Inc., 2340 Smith Road, Shelocta, Pennsylvania 15774.

Mine: TJS #6 Mine, MSHA I.D. No. 36-09464, located in Armstrong County, Pennsylvania.

Regulation Affected: 30 CFR 75.503 (Permissible electric face equipment; maintenance) and 30 CFR 18.35 (Portable trailing cables and cords).

Modification Request: The petitioner requests a modification of the existing standard to permit the cable length to be increased for cable supplying power to two Fletcher Roof Ranger II Roof Bolters. The voltage for these machines is 480-volts, three-phase alternating current. The petitioner states that: (1) The maximum length of the 480-volt trailing cables be increased to 1200 feet when No. 2 American Wire Gauge (AWG) cable is being used, and the maximum length of the 480-volt trailing cable be 950 feet when No. 4 AWG cable is being used; (2) the trailing cables for the 480-volt Fletcher Roof Ranger II Roof Bolters will not be smaller than No. 4 AWG cable; (3) all circuit breakers used to protect the No. 2 AWG trailing cable or the No. 4 AWG trailing cable exceeding 700 feet in length will have instantaneous trip units calibrated to trip at 500 amperes; (4) the trip setting for these circuit breakers will be sealed to ensure that the settings on these breakers cannot be changed, and each one will have permanent legible labels identifying the circuit breakers as being suitable for protecting the cables as listed above; (5) replacement circuit breakers and/or instantaneous trip units used to protect the No. 2 AWG trailing cable or the No. 4 AWG trailing cable will be calibrated to trip at 500 amperes, and this setting will be sealed; (6) all components that provide short-circuit protection will have a sufficient interruption rating in accordance with the maximum calculated fault currents available; (7) during each production day the trailing cables and the circuit breakers will be examined in accordance with all 30 CFR provisions; (8) permanent labels to warn miners not to change or alter the settings of these devices will be installed and maintained on the load center identifying the location of each short-circuit protective device; and (9) if the affected trailing cables are damaged in any way during the shift, the cable will be de-energized and repairs will be made. Persons may review a complete description of petitioner's alternative method and procedures at the MSHA address listed in this notice. The petitioner states that the alternative method will not be implemented until all miners designated to operate the Roof Ranger II or any other person designated to examine the trailing cables or trip settings on the circuit breakers have received proper training. The training for the miners will include the following elements: (1) Training in the hazards of setting the short-circuit interrupting device(s) too high to adequately protect the trailing cables; (2) training on how to verify that the circuit interrupting device(s) protecting the trailing cable(s) are properly set and maintained; (3) training in mining methods and operating procedures for protecting the trailing cables against damage; and (4) training in the proper procedures for examining the trailing cables to ensure that the cables are in safe operating conditions by a visual inspection of the entire cable, observing the insulation, the integrity of the splices, and nicks and abrasions. The petitioner further states that within 60 days after the Proposed Decision and Order becomes final, the proposed revisions for its approved 30 CFR part 48 training plan will be submitted to the District Manager. These proposed revisions will specify task training for miners designated to examine the trailing cables for safe operating conditions, and verify that the short-circuit settings of the circuit interrupting device(s) that protect the affecting trailing cables do not exceed the specified setting(s). The petitioner asserts that the proposed alternative method will at all times guarantee no less than the same measure of protection afforded the miners by such standard with no diminution of safety to the miners.

Docket Number: M-2008-034-C.

Petitioner: Rosebud Mining Company, 301 Market Street, Kittanning, Pennsylvania 16201.

Mines: Beaver Valley Mine, MSHA I.D. No. 36-08725, located in Beaver County, Pennsylvania; Clementine Mine, MSHA I.D. No. 36-08862 and Logansport Mine, MSHA I.D. No. 36-08841, located in Armstrong County, Pennsylvania; Little Toby Mine, MSHA I.D. No. 36-08847, located in Elk County, Pennsylvania; Lowry Mine, MSHA I.D. No. 36-09287 and Toms Run Mine, MSHA I.D. No. 36-08525, located in Indiana County, Pennsylvania; Mine 78, MSHA I.D. No. 36-09371, located in Somerset County, Pennsylvania; Penfield Mine, MSHA I.D. No. 36-09355, located in Clearfield County, Pennsylvania; and Tusky Mine, MSHA I.D. No. 33-04509, located in Tuscarawas County, Ohio.

Regulation Affected: 30 CFR 75.1100-2(e)(2) (Quantity and location of firefighting equipment).

Modification Request: The petitioner requests a modification of the existing standard to permit an alternate method of compliance with the firefighting equipment requirement at temporary electrical installations. The petitioner proposes to supply two fire extinguishers or one fire extinguisher of twice the required capacity at all temporary electrical installations in lieu of 240 pounds of rock dust. The petitioner asserts that the proposed alternative method will at all times guarantee no less than the same measure of protection afforded the miners by such standard with no diminution of safety to the miners.

Docket Number: M-2008-035-C.

Petitioner: Jim Walter Resources, Inc., P.O. Box 133, Brookwood, Alabama 35444.

Mine: No. 4 Mine, MSHA I.D. No. 01-01247 and No. 7 Mine, MSHA I.D. No. 01-01401, both located in Tuscaloosa County, Alabama.

Regulation Affected: 30 CFR 50.30 (Preparation and submission of MSHA Form 7000-2—Quarterly Employment and Coal Production Report).

Modification Request: The petitioner requests a modification of the existing standard to permit MSHA Form 7000-2 to be completed and submitted within 60 days after the end of each calendar quarter. The petitioner asserts that the proposed alternative method will at all times guarantee no less than the same measure of protection afforded the miners by the standard.

Docket Number: M-2008-036-C.

Petitioner: AMFIRE Mining Company, LLC, One Energy Place, Latrobe, Pennsylvania 15650.

Mine: Gillhouser Run Mine, MSHA I.D. No. 36-09033, located in Indiana County, Pennsylvania.

Regulation Affected: 30 CFR 75.500(d) (Permissible electric equipment).

Modification Request: The petitioner requests a modification of the existing standard to permit an alternative method to use low-voltage or battery-powered non-permissible electronic surveying equipment in or inby the last open crosscut, or within 150 feet of pillar workings under controlled conditions for surveying and mapping of the working section, and for final surveying in the return areas of the mine. The petitioner seeks modification of 30 CFR 75.500(d) and any other applicable standards as they pertain to restricting the use of non-permissible or non-intrinsically safe electrical testing and diagnostic equipment used by maintenance personnel for trouble shooting and repair of mining equipment commonly used and accepted which may include, but is not limited to: Low-voltage or battery-powered non-permissible electronic surveying equipment, portable battery operated hand drills, portable battery operated mine transits, electronic distance meters, and other equipment that may have to be used including but not limited to tools such as laptop computers. The petitioner states that: (1) Application of the existing standard will result in a diminution of safety to the miners; (2) mining equipment by its nature, size, complexity of mine plans, and relative closeness to other abandoned mines requires that accurate and precise measurements be completed in a prompt and efficient manner; (3) all non-permissible electronic surveying equipment used in or inby the last open crosscut shall be examined prior to use to ensure that the equipment is being maintained in safe operating conditions; (4) the equipment will be examined at intervals not to exceed 7 days by a qualified person as defined in 30 CFR 75.153; (5) examination results will be recorded in the weekly examination of electrical equipment book; (6) a qualified person as defined in 30 CFR 75.151 will continuously monitor for methane immediately before and during the use of non-permissible electronic test and diagnostic equipment in or inby the last open crosscut, in return areas, or within 150 feet of pillar workings; (7) if 1.0 percent or more of methane is detected, non-permissible electronic surveying equipment will be de-energized immediately and will be withdrawn outby the last open crosscut to intake air, or to a minimum of 150 feet outby the pillar workings; (8) all hand-held methane detectors will be MSHA-approved and maintained in permissible and proper operating condition as defined under 30 CFR 75.320; (9) qualified personnel engaged in the use of electronic surveying equipment will be properly trained to recognize the hazards and limitations associated with the use of such equipment; and (10) all electronic surveying equipment will be used in accordance with the manufacturer's recommended safe use procedures. Persons may review a complete description of petitioner's alternative method and procedures at the MSHA address listed in this notice. The petitioner asserts that the proposed alternative method will at all times guarantee no less than the same measure of protection afforded the miners by such standard.

Docket Number: M-2008-037-C.

Petitioner: AMFIRE Mining Company, LLC, One Energy Place, Latrobe, Pennsylvania 15650.

Mine: Madison Mine, MSHA I.D. No. 36-09127, located in Cambria County, Pennsylvania.

Regulation Affected: 30 CFR 75.500(d) (Permissible electric equipment).

Modification Request: The petitioner requests a modification of the existing standard to permit an alternative method to use low-voltage or battery-powered non-permissible electronic surveying equipment in or inby the last open crosscut, or within 150 feet of pillar workings under controlled conditions for surveying and mapping of the working section, and for final surveying in the return areas of the mine. The petitioner seeks modification of 30 CFR 75.500(d) and any other applicable standards as they pertain to restricting the use of non-permissible or non-intrinsically safe electrical testing and diagnostic equipment used by maintenance personnel for trouble shooting and repair of mining equipment commonly used and accepted which may include, but is not limited to: Low-voltage or battery-powered non-permissible electronic surveying equipment, portable battery operated hand drills, portable battery operated mine transits, electronic distance meters, and other equipment that may have to be used including but not limited to tools such as laptop computers. The petitioner states that: (1) Application of the existing standard will result in a diminution of safety to the miners; (2) mining equipment by its nature, size, complexity of mine plans, and relative closeness to other abandoned mines requires that accurate and precise measurements be completed in a prompt and efficient manner; (3) all non-permissible electronic surveying equipment used in or inby the last open crosscut shall be examined prior to use to ensure that the equipment is being maintained in safe operating conditions; (4) the equipment will be examined at intervals not to exceed 7 days by a qualified person as defined in 30 CFR 75.153; (5) examination results will be recorded in the weekly examination of electrical equipment book; (6) a qualified person as defined in 30 CFR 75.151 will continuously monitor for methane immediately before and during the use of non-permissible electronic test and diagnostic equipment in or inby the last open crosscut, in return areas, or within 150 feet of pillar workings; (7) if 1.0 percent or more of methane is detected, non-permissible electronic surveying equipment will be de-energized immediately and will be withdrawn outby the last open crosscut to intake air, or to a minimum of 150 feet outby the pillar workings; (8) all hand-held methane detectors will be MSHA-approved and maintained in permissible and proper operating condition as defined under 30 CFR 75.320; (9) qualified personnel engaged in the use of electronic surveying equipment will be properly trained to recognize the hazards and limitations associated with the use of such equipment; and (10) all electronic surveying equipment will be used in accordance with the manufacturer's recommended safe use procedures. Persons may review a complete description of petitioner's alternative method and procedures at the MSHA address listed in this notice. The petitioner asserts that the proposed alternative method will at all times guarantee no less than the same measure of protection afforded the miners by such standard.

Docket Number: M-2008-038-C.

Petitioner: AMFIRE Mining Company, LLC, One Energy Place, Latrobe, Pennsylvania 15650.

Mine: Nolo Mine, MSHA I.D. No. 36-08850, located in Indiana County, Pennsylvania.

Regulation Affected: 30 CFR 75.500(d) (Permissible electric equipment).

Modification Request: The petitioner requests a modification of the existing standard to permit an alternative method to use low-voltage or battery-powered non-permissible electronic surveying equipment in or inby the last open crosscut, or within 150 feet of pillar workings under controlled conditions for surveying and mapping of the working section, and for final surveying in the return areas of the mine. The petitioner seeks modification of 30 CFR 75.500(d) and any other applicable standards as they pertain to restricting the use of non-permissible or non-intrinsically safe electrical testing and diagnostic equipment used by maintenance personnel for troubleshooting and repair of mining equipment commonly used and accepted which may include, but is not limited to: Low-voltage or battery-powered non-permissible electronic surveying equipment, portable battery operated hand drills, portable battery operated mine transits, electronic distance meters, and other equipment that may have to be used including but not limited to tools such as laptop computers. The petitioner states that: (1) Application of the existing standard will result in a diminution of safety to the miners; (2) mining equipment by its nature, size, complexity of mine plans, and relative closeness to other abandoned mines require that accurate and precise measurements be completed in a prompt and efficient manner; (3) all non-permissible electronic surveying equipment used in or inby the last open crosscut shall be examined prior to use to ensure that the equipment is being maintained in safe operating conditions; (4) the equipment will be examined at intervals not to exceed 7 days by a qualified person as defined in 30 CFR 75.153; (5) examination results will be recorded in the weekly examination of electrical equipment book; (6) a qualified person as defined in 30 CFR 75.151 will continuously monitor for methane immediately before and during the use of non-permissible electronic test and diagnostic equipment in or inby the last open crosscut, in return areas, or within 150 feet of pillar workings; (7) if 1.0 percent or more of methane is detected, non-permissible electronic surveying equipment will be de-energized immediately and will be withdrawn outby the last open crosscut to intake air, or to a minimum of 150 feet outby the pillar workings; (8) all hand-held methane detectors will be MSHA-approved and maintained in permissible and proper operating condition as defined under 30 CFR 75.320; (9) qualified personnel engaged in the use of electronic surveying equipment will be properly trained to recognize the hazards and limitations associated with the use of such equipment; and (10) all electronic surveying equipment will be used in accordance with the manufacturer's recommended safe use procedures. Persons may review a complete description of petitioner's alternative method and procedures at the MSHA address listed in this notice. The petitioner asserts that the proposed alternative method will at all times guarantee no less than the same measure of protection afforded the miners by such standard.

Lawrence D. Reynolds,
Acting Deputy Director, Office of Standards, Regulations, and Variances.

[FR Doc. E8-16669 Filed 7-21-08; 8:45 am]

BILLING CODE 4510-43-P